DEPARTMENT OF DEFENSE

Department of the Navy

32 CFR Part 757

[USN-2006-0041]

RIN 0703-AA81

Affirmative Claims Regulations

AGENCY: Department of the Navy, DoD.

ACTION: Final rule.

SUMMARY: The Department of the Navy has adopted as final, an interim rule amending regulations concerning the administrative processing and consideration of claims on behalf of and against the United States. This rule is being published by the Department of the Navy for guidance and interest of the public in accordance with 5 U.S.C. 552(a)(1).

DATES: This rule is effective October 15, 2008.

FOR FURTHER INFORMATION CONTACT: Mr. Hal Dronberger, Claims and Tort Litigation Division (Code 15), Office of the Judge Advocate General, 1322 Patterson Avenue, SE., Washington Navy Yard, DC 20374, telephone: 202-685-4600.

SUPPLEMENTARY INFORMATION: The Department of the Navy published an interim rule at 72 FR 53426 on September 19, 2007, to amend regulations concerning the administrative processing and consideration of claims on behalf of and against the United States. No comments on the interim final rule were submitted. Accordingly, the interim rule amending 32 CFR part 757 is adopted as a final rule with no changes.

Executive Order 12866, “Regulatory Planning and Review.” It has been determined that the changes to 32 CFR part 757 are not considered a “significant regulatory action.” The rule does not:

(1) Have an annual affect on the economy of $100 million or more or adversely affect in a material way the economy, a sector in the economy, productivity, competition, jobs, the environment, public health or safety, or state, local, or tribal governments or communities;

(2) Create a serious inconsistency or otherwise interfere with an action taken or planned by another agency;

(3) Materially alter the budgetary impact of entitlements, grants, user fees, or loan programs, or the rights and obligations of the recipients thereof; or

(4) Raise novel legal or policy issues arising out of legal mandates, the President's priorities, or the principles set forth in this Executive Order.

Unfunded Mandates Reform Act (Sec. 202, Pub. L. 104-4). It has been certified that 32 CFR part 757 does not contain Federal Mandates that result in expenditures by State, local and tribal governments, in aggregate, or by the private sector, of $100 million or more in any one year.

Public Law 96-354, “Regulatory Flexibility Act” (5 U.S.C. 601). It has been determined that this rule is not subject to the Regulatory Flexibility Act (5 U.S.C. 601) because it would not, if promulgated, have a significant economic impact on a substantial number of small entities. This rule implements the processing of the proper administrative processing and consideration of claims on behalf of and against the United States, and does not economically impact the Federal government's relations with the private sector.

Public Law 96-511, “Paperwork Reduction Act” (44 U.S.C. Chapter 35). This rule does not impose collection of information requirements for purposes of the Paperwork Reduction Act (44 U.S.C. Chapter 35, 5 CFR part 1320).

Executive Order 13132, “Federalism”. It has been certified that 32 CFR part 757 does not have federalism implications as set forth in Executive Order 13132. This rule does not have substantial direct effects on:

(1) The States;

(2) The relationship between the National Government and the States; or

(3) The distribution of power and responsibilities among the various levels of government.

Accordingly, the interim rule amending 32 CFR part 757 which was published at 72 FR 53426 on September 19, 2007, is adopted as a final rule without change.

Dated: October 7, 2008.
T.M. Cruz,
Lieutenant Commander, Judge Advocate General's Corps, U.S. Navy, Federal Register Liaison Officer.

[FR Doc. E8-24381 Filed 10-14-08; 8:45 am]

BILLING CODE 3810-FF-P